DEPARTMENT OF COMMERCE

National Oceanic and Atmospheric Administration

RIN 0648-XC710

Pacific Fishery Management Council (Pacific Council); Public Meeting

AGENCY: National Marine Fisheries Service (NMFS), National Oceanic and Atmospheric Administration, Commerce.

ACTION: Notice of public meetings.

SUMMARY: The Pacific Council and its advisory entities will hold public meetings.

DATES: The Pacific Council and its advisory entities will meet June 18-25, 2013. The Pacific Council meeting will begin on Thursday, June 20, 2013 at 8 a.m., reconvening each day through Tuesday, June 25, 2013. All meetings are open to the public, except a closed session will be held at the end of the scheduled agenda on Thursday, June 20, to address litigation and personnel matters. The Pacific Council will meet as late as necessary each day to complete its scheduled business.

ADDRESSES: Meetings of the Pacific Council and its advisory entities will be held at the Hyatt Regency Orange County, 11999 Harbor Boulevard, Garden Grove, CA 92840; telephone: (888) 421-1442.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order.

A. Call to Order

1. Opening Remarks

2. Roll Call

3. Executive Director's Report

4. Approve Agenda

B. Open Comment Period

1. Comments on Non-Agenda Items

C. Administrative Matters

1. Reports on Managing Our Nation's Fisheries 3 Conference and the Council Coordination Committee Meeting

2. Approval of Council Meeting Minutes

3. Legislative Matters

4. Coastal Marine Spatial Planning Update

5. Fiscal Matters

6. Membership Appointments and Council Operating Procedures

7. Future Council Meeting Agenda and Workload Planning

D. Highly Migratory Species Management

1. National Marine Fisheries Service Report

2. U.S.-Canada Albacore Treaty Update

3. Preliminary Exempted Fishing Permit Approval

4. Response to Pacific Bluefin Tuna Overfished Status

5. North Pacific Albacore Tuna Precautionary Management Framework

E. Enforcement Issues

1. Vessel Monitoring System Declaration Regulations

F. Groundfish Management

1. National Marine Fisheries Service Report

2. Status of the Rationalized Trawl Fishery

3. Mid-Water Sport Fishery

4. Seabird Avoidance Regulations

5. Approve Stock Assessments

6. Trawl Rationalization Trailing Actions

7. Consideration of 2015-16 and Beyond Harvest Specifications and Management Measures

8. Adopt Preliminary Stock Complex Aggregations

9. Consideration of Inseason Adjustments

G. Habitat

1. Current Habitat Issues

H. Ecosystem-Based Management

1. Update List of Fisheries

Schedule of Ancillary Meetings
| Time | Location
Tuesday, June 18, 2013:
SSC Groundfish Subcommittee and STAR Panel Updates | 9 a.m. | Royal C Room.
Wednesday, June 19, 2013:
Groundfish Management Team | 8 a.m. | Regal Room.
Highly Migratory Species Advisory Subpanel | 8 a.m. | Terrace A-D Room.
Highly Migratory Species Management Team | 8 a.m. | Terrace E-F Room.
Scientific and Statistical Committee | 8 a.m. | Royal C Room.
Legislative Committee | 12 Noon | Royal E Room.
Budget Committee | 2 p.m. | Granada Room.
Enforcement Consultants | 5 p.m. | Royal D-F Room.
Thursday, June 20, 2013:
California State Delegation | 7 a.m. | Royal E Room.
Oregon State Delegation | 7 a.m. | Royal D-F Room.
Groundfish Advisory Subpanel | 8 a.m. | Royal E Room.
Groundfish Management Team | 8 a.m. | Regal Room.
Highly Migratory Species Advisory Subpanel | 8 a.m. | Terrace A-D Room.
Highly Migratory Species Management Team | 8 a.m. | Terrace E-F Room.
Scientific and Statistical Committee | 8 a.m. | Royal C Room.
Habitat Committee | 8:30 a.m. | Valencia Room.
Chair's Reception | 6 p.m. | Pool North Tower.
Enforcement Consultants | As Necessary | Royal D-F Room.
Friday, June 21, 2013:
California State Delegation | 7 a.m. | Royal E Room.
Oregon State Delegation | 7 a.m. | Royal D-F Room.
Washington State Delegation | 7 a.m. | Royal C Room.
Groundfish Advisory Subpanel | 8 a.m. | Royal E Room.
Groundfish Management Team | 8 a.m. | Regal Room.
Enforcement Consultants | As Necessary | Royal D-F Room.
Saturday, June 22, 2013:
California State Delegation | 7 a.m. | Royal E Room.
Oregon State Delegation | 7 a.m. | Royal D-F Room.
Washington State Delegation | 7 a.m. | Royal C Room.
Groundfish Advisory Subpanel | 8 a.m. | Royal E Room.
Groundfish Management Team | 8 a.m. | Regal Room.
Enforcement Consultants | As Necessary | Royal D-F Room.
Sunday, June 23, 2013:
California State Delegation | 7 a.m. | Royal E Room.
Oregon State Delegation | 7 a.m. | Royal D-F Room.
Washington State Delegation | 7 a.m. | Royal C Room.
Groundfish Advisory Subpanel | 8 a.m. | Royal E Room.
Groundfish Management Team | 8 a.m. | Regal Room.
Coastal Pelagic Species Advisory Subpanel | 8 a.m. | Royal C Room.
Coastal Pelagic Species Management Team | 8 a.m. | Royal D-F Room.
Enforcement Consultants | As Necessary | TBD.
Monday, June 24, 2013:
California State Delegation | 7 a.m. | Royal E Room.
Oregon State Delegation | 7 a.m. | Royal D-F Room.
Washington State Delegation | 7 a.m. | Royal C Room.
Groundfish Advisory Subpanel | 8 a.m. | Royal E Room.
Groundfish Management Team | 8 a.m. | Regal Room.
Coastal Pelagic Species Advisory Subpanel | 8 a.m. | Royal C Room.
Coastal Pelagic Species Management Team | 8 a.m. | Royal D-F Room.
Enforcement Consultants | As Necessary | TBD.
Tuesday, June 25, 2013:
California State Delegation | 7 a.m. | Royal E Room.
Oregon State Delegation | 7 a.m. | Royal D-F Room.
Washington State Delegation | 7 a.m. | Royal C Room.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: May 28, 2013.
Tracey L. Thompson,
Acting Deputy Director, Office of Sustainable Fisheries, National Marine Fisheries Service.

[FR Doc. 2013-12948 Filed 5-30-13; 8:45 am]

BILLING CODE 3510-22-P